DEPARTMENT OF AGRICULTURE

Submission for OMB Review; Comment Request

December 14, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Rate Quotation for Transportation Services.

OMB Control Number: 0560-0235.

Summary of Collection: The Commodity Credit Corporation (CCC) through the Kansas City Commodity Office (KCCO) solicits bids from approved Motor Carriers and Intermodal Marketing Companies for the purpose of providing transportation of agricultural commodities. 49 U.S.C. 13712 authorizes USDA to receive freight rate quotes from approved Motor Carriers and Intermodal Marketing Companies that are compliant with USDA requirements to haul agricultural products for USDA. The Farm Service Agency (FSA) will collect information using form KC-5, Rate Quotation for Transportation Services.

Need and Use of the Information: The information collected will be used by KCCO to: (1) Establish the lowest cost of movement via Motor Carriers or Intemodal Marketing Companies, (2) determine whether the transportation needs of USDA, FSA, and KCCO are being met, and (3) ensure that Motor Carriers and Intermodal Marketing Companies, providing transportation services have both the willingness and the capability to meet these needs.

Description of Respondents: Business or other-for-profit.

Number of Respondents: 164.

Frequency of Responses: Reporting: On occasion; Other (as needed).

Total Burden Hours: 1,681.

Ruth Brown,
Departmental Information Collection Clearance Officer.

[FR Doc. E6-21677 Filed 12-19-06; 8:45 am]

BILLING CODE 3410-05-P